DEPARTMENT OF AGRICULTURE

Agricultural Marketing Service

7 CFR Part 59

[Docket No. AMS-LS-07-0106; LS-07-01]

RIN 0581-AC67

Livestock Mandatory Reporting; Reestablishment and Revision of the Reporting Regulation for Swine, Cattle, Lamb, and Boxed Beef

AGENCY: Agricultural Marketing Service, USDA.

ACTION: Extension of comment period.

SUMMARY: Notice is hereby given that the comment period on the reestablishment and revision of the Livestock Mandatory Reporting (LMR) program is extended until September 24, 2007.

DATES: Comments must be submitted on or before September 24, 2007, to be assured of consideration.

ADDRESSES: Interested persons are invited to submit written comments concerning this proposal. Comments can be submitted on the Internet at: http://www.regulations.gov. Written comments can be sent to Warren P. Preston, Chief, Livestock and Grain Market News Branch, Docket No. LS-07-01, 1400 Independence Ave., SW., Room 2619-S, Washington, DC 20250-0252, or by facsimile to (202) 690-3732. All comments should reference the docket number and the date and page number of this issue. All comments will be available for public inspection at the above location, or on the Internet at http://www.regulations.gov. Comments that specifically pertain to the information collection and recordkeeping requirements of this action should also be sent to the Desk Officer for Agriculture, Office of Information and Regulatory Affairs, Office of Management and Budget, New Executive Office Building, 725 17th Street, NW., Room 725, Washington, DC 20503.

FOR FURTHER INFORMATION CONTACT: Warren P. Preston, Chief, Livestock and Grain Market News Branch at (202) 720-6231, fax (202) 690-3732, or e-mail Warren.Preston@usda.gov.

SUPPLEMENTARY INFORMATION: On April 2, 2001, AMS implemented the LMR program as required by the Livestock Mandatory Reporting Act of 1999 (1999 Act). The statutory authority for the program lapsed on Sept. 30, 2005. In October 2006, Congress enacted legislation to reauthorize the 1999 Act through Sept. 30, 2010 (Reauthorization Act), and to amend the swine reporting requirements of the 1999 Act.

As such, a proposed rule was published in the Federal Register on August 8, 2007, (72 FR 44671) to re-establish the regulatory authority for the program's continued operation and incorporate the swine reporting changes contained within the Reauthorization Act. In addition, the rule proposed changes to the LMR program that seek to enhance the program's overall effectiveness and efficiency based on AMS' experience in the administration of the program over the past six years.

The comment period was originally scheduled to end on September 7, 2007. However, several industry organizations have requested additional time to provide more thorough comments. AMS believes it is beneficial to extend the comment period until September 5, 2007, in order to receive input from all interested parties.

Authority: 7 U.S.C. 1621 et seq.

Dated: September 5, 2007.
Lloyd C. Day,
Administrator, Agricultural Marketing Service.

[FR Doc. 07-4405 Filed 9-5-07; 10:51 am]

BILLING CODE 3410-02-P